DEPARTMENT OF LABOR

Employment and Training Administration

[TA-W-70,962]

BG Labs, Binghamton, NY; Notice of Termination of Investigation

Pursuant to Section 223 of the Trade Act of 1974, as amended, an investigation was initiated in response to a petition filed on May 26, 2009 by a company official on behalf of workers of BG Labs, Binghamton, New York.

The petitioner has requested that the petition be withdrawn. Consequently, the investigation has been terminated.

Signed at Washington, DC, this 5th day of March 2010.
Elliott S. Kushner,
Certifying Officer, Division of Trade Adjustment Assistance.

[FR Doc. 2010-5346 Filed 3-11-10; 8:45 am]

BILLING CODE 4510-FN-P